INTERNATIONAL TRADE COMMISSION

[Investigation No. 337-TA-1267]

Certain Power Inverters and Converters, Vehicles Containing the Same, and Components Thereof; Institution of Investigation

AGENCY: U.S. International Trade Commission.

ACTION: Notice.

SUMMARY: Notice is hereby given that a complaint was filed with the U.S. International Trade Commission on May 21, 2021, under section 337 of the Tariff Act of 1930, as amended, on behalf of Arigna Technology Limited of Ireland. Supplements were filed on May 26, 2021, June 9, 2021, June 10, 2021, and June 11, 2021. The complaint, as supplemented, alleges violations of section 337 based upon the importation into the United States, the sale for importation, and the sale within the United States after importation of certain power inverters and converters, vehicles containing the same, and components thereof by reason of infringement of certain claims of U.S. Patent No. 8,247,867 (“the '867 patent”) and U.S. Patent No. 8,289,082 (“the '082 patent”). The complaint further alleges that an industry in the United States exists or is in the process of being established as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on June 22, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, 8, and 9 of the '867 patent and claims 1-6, 13, 17-22, and 29 of the '082 patent; and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “power inverters and converters used in automobiles, components thereof, and automobiles containing those power inverters or converters”;

(3) Pursuant to Commission Rule 210.50(b)(l), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. l337(d)(l), (f)(1), (g)(1);

(4) For the purpose of the investigation so instituted, the following are hereby named as parties upon which this notice of investigation shall be served:

(a) The complainant is: Arigna Technology Limited, The Hyde Building, Carrickmines, Suite 23, Dublin 18, Ireland.

(b) The respondents are the following entities alleged to be in violation of section 337, and are the parties upon which the complaint is to be served:

Volkswagen AG, Berliner Ring 2, 38440 Wolfsburg, Germany

Volkswagen Group of America, Inc., 2200 Ferdinand Porsche Drive, Herndon, Virginia 20171

Audi AG, Auto-Union-Straße 1, 85057 Ingolstadt, Germany

Audi of America, LLC, 2200 Ferdinand Porsche Drive, Herndon, Virginia 20171

Bentley Motors Limited, Pyms Lane, Crewe, Cheshire, CW1 3PL, United Kingdom

Bentley Motors, Inc., 2003 Edmund Halley Drive, Suite 300, Reston, Virginia 20191

Automobili Lamborghini America, LLC, 2200 Ferdinand Porsche Drive, Herndon, Virginia 20171

Automobili Lamborghini S.p.A., Via Modena 12, 40019 Sant'Agata Bolognese, Italy

Porsche AG, Porscheplatz 1, D-70435 Stuttgart, Germany

Porsche Cars North America, Inc., One Porsche Drive, Atlanta, Georgia 30354

Daimler AG, Mercedesstrasse 120, 70372 Stuttgart, Germany

Mercedes-Benz USA, LLC, One Mercedes-Benz Drive, Sandy Springs, Georgia 30328

Bayerische Motoren Werke AG, Petuelring 130, D-80788 Munich, Germany

BMW of North America, LLC, 300 Chestnut Ridge Road, Woodcliff Lake, New Jersey 07677

General Motors Company, 300 Renaissance Center, Detroit, Michigan 48243

General Motors LLC, 300 Renaissance Center, Suite L1, Detroit, Michigan 48243

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 23, 2021.
Lisa Barton,
Secretary to the Commission.

[FR Doc. 2021-13699 Filed 6-25-21; 8:45 am]

BILLING CODE 7020-02-P